DEPARTMENT OF TRANSPORTATION

Federal Aviation Administration

14 CFR Part 39

[Docket No. 2002-NM-209-AD]

RIN 2120-AA64

Airworthiness Directives; Short Brothers Model SD3 Series Airplanes

AGENCY: Federal Aviation Administration, DOT.

ACTION: Notice of proposed rulemaking (NPRM).

SUMMARY: This document proposes the adoption of a new airworthiness directive (AD) that is applicable to all Short Brothers Model SD3 series airplanes. This proposal would require installing a new warning annunciator light on the central warning panel and revising the Normal Procedures Section of the Aircraft Flight Manual to provide the flightcrew with procedures related to the new light. This action is necessary to prevent an engine shut-down, which could result in loss of control of the airplane and consequent injury to flightcrew and passengers. This action is intended to address the identified unsafe condition.

DATES: Comments must be received by July 2, 2004.

ADDRESSES: Submit comments in triplicate to the Federal Aviation Administration (FAA), Transport Airplane Directorate, ANM-114, Attention: Rules Docket No. 2002-NM-209-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-209-AD” in the subject line and need not be submitted in triplicate. Comments sent via the Internet as attached electronic files must be formatted in Microsoft Word 97 or 2000 or ASCII text.

The service information referenced in the proposed rule may be obtained from Short Brothers, Airworthiness & Engineering Quality, P.O. Box 241, Airport Road, Belfast BT3 9DZ, Northern Ireland. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-209-AD.” The postcard will be date stamped and returned to the commenter.

Availability of NPRMs

Any person may obtain a copy of this NPRM by submitting a request to the FAA, Transport Airplane Directorate, ANM-114, Attention: Rules Docket No. 2002-NM-209-AD, 1601 Lind Avenue, SW., Renton, Washington 98055-4056.

Discussion

The Civil Aviation Authority (CAA), which is the airworthiness authority for the United Kingdom, notified the FAA that an unsafe condition may exist on all Short Brothers Model SD3 series airplanes. The CAA advises that several occurrences of in-flight shut down of the engine while flying in icing conditions have been reported where failure to deploy the engine intake anti-icing vanes (inertial separators) has been cited as a contributory factor. When other anti-icing systems have been selected, there was no warning annunciator light to alert the flightcrew that the inertial separators were not yet deployed. This condition, if not corrected, could result in an engine shut down, which could result in loss of control of the airplane and consequent injury to flightcrew and passengers.

Explanation of Relevant Service Information

Short Brothers has issued Service Bulletins SD3 Sherpa-31-2, Revision 1, dated October 29, 2002 (for Model SD3-SHERPA series airplanes); SD360 Sherpa-31-01, Revision 1, dated October 29, 2002 (for Model SD3-60 SHERPA series airplanes); SD330-31-15, Revision 1, dated October 29, 2002 (for Model SD3-30 series airplanes); and SD360-31-06, Revision 1, dated October 29, 2002 (for Model SD3-60 series airplanes); as applicable. The service bulletins describe procedures for installing a new warning annunciator light on the central warning panel and revising the Normal Procedures Section of the Aircraft Flight Manual to provide the flightcrew with procedures related to the new warning light. Accomplishment of the actions specified in the service bulletins is intended to adequately address the identified unsafe condition. The CAA classified these service bulletins as mandatory and issued British airworthiness directives 002-06-2002, 003-06-2002, 004-06-2002, and 005-06-2002 in order to assure the continued airworthiness of these airplanes in the United Kingdom.

FAA's Conclusions

These airplane models are manufactured in the United Kingdom and are type certificated for operation in the United States under the provisions of section 21.29 of the Federal Aviation Regulations (14 CFR 21.29) and the applicable bilateral airworthiness agreement. Pursuant to this bilateral airworthiness agreement, the CAA has kept the FAA informed of the situation described above. The FAA has examined the findings of the CAA, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the applicable service bulletins described previously.

Cost Impact

The FAA estimates that 125 Model SD3 series airplanes of U.S. registry would be affected by this proposed AD, that it would take approximately 30 work hours per airplane to accomplish the proposed actions, and that the average labor rate is $65 per work hour. Required parts would cost approximately $4,800 per airplane. Based on these figures, the cost impact of the proposed AD on U.S. operators is estimated to be $843,750, or $6,750 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Short Brothers PLC: Docket 2002-NM-209-AD. ]

Applicability: All Model SD3 series airplanes, certificated in any category.

Compliance: Required as indicated, unless accomplished previously.

To prevent an engine shut down, which could result in loss of control of the airplane and consequent injury to flight crew and passengers, accomplish the following:

Installation and Airplane Flight Manual (AFM) Revision

(a) Within five months after the effective date of this AD, do the actions specified in paragraphs (a)(1) and (a)(2) of this AD.

(1) Install a new warning annunciator light on the central warning panel in accordance with the Accomplishment Instructions of the applicable Shorts service bulletins listed in Table 1 of this AD; and

(2) Revise the Normal Procedures Section of the AFM by inserting a copy of the applicable pages of the Shorts AFM document listed in Table 1 of this AD, per the Accomplisment Instructions of the applicable Shorts service bulletin listed in Table 1 of this AD.

Table 1.—Shorts Service Bulletins and AFMs
For Model— | Shorts service bulletin— | Shorts AFM document No.—
SD3-SHERPA series airplanes | SD3 Sherpa-31-2, Revision 1, dated October 29, 2002 | Doc. No.SB.5.2, P/5.
SD3-60 SHERPA series airplanes | SD360 Sherpa-31-01, Revision 1, dated October 29, 2002 | Doc. No.SB.6.2, P/3.
SD3-30 series airplanes | SD330-31-15, Revision 1, dated October 29, 2002 | Doc. No. SBH.3.3, P/20 or Doc. No.SBH.3.6, P/18, as applicable.
SD3-60 series airplanes | SD360-31-06, Revision 1, dated October 29, 2002 | Doc. No. SB.4.8, P/19 or Doc. No. SB.4.6, P/20, as applicable.

Alternative Methods of Compliance

(b) In accordance with 14 CFR 39.19, the Manager, International Branch, ANM-116, FAA, is authorized to approve alternative methods of compliance (AMOCs) for this AD.

Note 1: The subject of this AD is addressed in British airworthiness directives 002-06-2002, 003-06-2002, 004-06-2002, and 005-06-2002.

Issued in Renton, Washington, on May 25, 2004.
Kalene C. Yanamura,
Acting Manager, Transport Airplane Directorate, Aircraft Certification Service.

[FR Doc. 04-12444 Filed 6-1-04; 8:45 am]

BILLING CODE 4910-13-P